DEPARTMENT OF HEALTH AND HUMAN SERVICES

Centers for Disease Control and Prevention

National Center for Health Statistics (NCHS), ICD-10 Coordination and Maintenance (C&M) Committee Meeting

AGENCY: Centers for Disease Control and Prevention (CDC), Department of Health and Human Services (HHS).

ACTION: Notice of meeting.

SUMMARY: The CDC, National Center for Health Statistics (NCHS), Classifications and Public Health Data Standards Staff, announces the following meeting of the ICD-10 Coordination and Maintenance (C&M) Committee meeting. This meeting is open to the public, limited only by audio lines available. Online Registration is not required.

DATES: The meeting will be held on March 9, 2021, from 9:00 a.m. to 5:00 p.m., EDT, and March 10, 2021, from 9:00 a.m. to 5:00 p.m., EDT.

ADDRESSES: This is a virtual meeting. Information will be provided on each of our respective web pages when it becomes available. For CDC/NCHS https://www.cdc.gov/nchs/icd/icd10cm_maintenance.htm. For CMS https://www.cms.gov/Medicare/Coding/ICD9ProviderDiagnosticCodes/meetings.

FOR FURTHER INFORMATION CONTACT: Traci Ramirez, Program Specialist, CDC, 3311 Toledo Road, Hyattsville, Maryland 20782, Telephone (301) 458-4454; TRamirez@cdc.gov.

SUPPLEMENTARY INFORMATION:

Purpose: The ICD-10 Coordination and Maintenance (C&M) Committee is a public forum for the presentation of proposed modifications to the International Classification of Diseases, Tenth Revision, Clinical Modification and ICD-10 Procedure Coding System.

Matters To Be Considered: The tentative agenda will include discussions on ICD-10-CM and ICD-10-PCS topics listed below. Agenda items are subject to change as priorities dictate. Please refer to the posted agenda for updates one month prior to the meeting.

ICD-10-PCS Topics

1. Administration of Trilaciclib *

2. Administration of ZEPZELCA™ (lurbinectedin) *

3. Administration of ENSPRYNG™ (satralizumab-mwge) *

4. Administration of ciltacabtagene autoleucel (cilta-cel) *

5. Administration of Amivantamab *

6. Administration of Molnupiravir *

7. Transfusion of Pathogen Reduced Cryoprecipitated Fibrinogen Complex (PRCFC) *

8. Administration of OTL-103

9. Administration of OTL-200

10. Application of Topical Agent for Non-Excisional Eschar Removal *

11. Application of Bioengineered Skin Construct *

12. Computer-Aided Assessment, Characterization and Notification Software for Head CT Scan *

13. Computer-Aided Detection, Triage and Notification Software for Acute Subdural Hemorrhage with Non-Contrast CT of the Head *

14. Computer-Aided Detection, Triage and Notification Software for Computed Tomography Pulmonary Angiography (CTPA) *

15. Computer-Aided Detection, Triage and Notification Software for Stroke with Non-Contrast CT of the Head *

16. Transthoracic Echocardiography with AI-Guide Image Acquisition *

17. Tissue Oxygen Saturation Imaging of GI Tract *

18. Mechanical Thrombectomy using AI Assistance *

19. Transcatheter Replacement of Pulmonary Valve *

20. Combined Thoracic Aortic Arch Replacement and Descending Thoracic Aorta Restriction *

21. Extraluminal Autologous Saphenous Vein Graft Support *

22. Coronary Intravascular Lithotripsy (IVL) *

23. Percutaneous Creation of an Arterio-Venous Fistula (AVF) *

24. Pharyngeal Electrical Stimulation *

25. Patient Specific Intervertebral Body Fusion *

26. Colonic Irrigation for Colonoscopy *

27. Blood Collection Utilizing Specimen Diversion *

28. Concurrent Measurement of mRNA, PCR test and Detection of Antibodies *

29. Metal Ureteral Stents

30. Regional Anticoagulation for Renal Replacement Therapy

31. Gene Expression Assay

32. Total Artificial Heart Systems

33. Tourniquets Used for Acute Hemorrhage Control

34. Measurement of Flow in a Cerebral Fluid Shunt

35. Endoscopic Suturing Device for Upper and Lower GI Procedures

36. Section X Updates

37. Addenda and Key Updates

* Applicant has submitted a New Technology Add-on Payment (NTAP) application for FY 2022.

Presentations for procedure code requests are conducted by both the requestor and CMS during the Coordination & Maintenance Committee meeting. Discussion from the requestor generally focuses on the clinical issues for the procedure or technology, followed by the proposed coding options from a CMS analyst. Topics presented may also include requests for new procedure codes that relate to a new technology add-on payment (NTAP) policy request.

CMS is modifying the approach for presenting the new technology add-on payment (NTAP) related ICD-10-PCS procedure code requests that involve the administration of a therapeutic agent for the March 9-10, 2021 ICD-10 Coordination and Maintenance Committee meeting due to the volume of NTAP applications and corresponding procedure code requests being considered for FY 2022. Consistent with the requirements of section 1886(d)(5)(K)(iii) of the Social Security Act, applicants submitted requests to create a unique procedure code to describe the administration of a therapeutic agent, such as the option to create a new code in Section X within the ICD-10-PCS procedure code classification. In order to accommodate the number of requests received for the March 9-10, 2021 ICD-10 Coordination and Maintenance Committee meeting, CMS will initially only display those meeting materials associated with the NTAP related ICD-10-PCS procedure code requests that involve the administration of a therapeutic agent on the CMS website in early February 2021 at: https://www.cms.gov/Medicare/Coding/ICD10/C-and-M-Meeting-Materials.

The six NTAP related ICD-10-PCS procedure code requests that involve the administration of a therapeutic agent are:

1. Administration of Trilaciclib

2. Administration of ZEPZELCA™ (lurbinectedin)

3. Administration of ENSPRYNG™ (satralizumab-mwge)

4. Administration of Ciltacabtagene Autoleucel (cilta-cel)

5. Administration of Amivantamab

6. Transfusion of Pathogen Reduced Cryoprecipitated Fibrinogen Complex (PRCFC)

These topics will not be presented during the March 9-10, 2021 meeting. CMS will solicit public comments regarding any clinical questions or coding options included for these six procedure code topics in advance of the meeting continuing through the end of the public comment period, April 9, 2021. Members of the public should send any questions or comments to the CMS mailbox at: ICDProcedureCodeRequest@cms.hhs.gov by the April 9, 2021 deadline.

CMS intends to post a question and answer document in advance of the meeting to address any clinical or coding questions that members of the public may have submitted. Following the conclusion of the meeting, CMS will post an updated question and answer document to address any additional clinical or coding questions that members of the public may have submitted during the meeting that CMS was not able to address or that were submitted after the meeting.

The NTAP related ICD-10-PCS procedure code requests that do not involve the administration of a therapeutic agent and all non-NTAP related procedure code requests will continue to be presented during the virtual meeting on March 9, 2021 consistent with the standard meeting process.

CMS will make all meeting materials and related documents available at: https://www.cms.gov/Medicare/Coding/ICD10/C-and-M-Meeting-Materials. Any inquiries related to the procedure code topics scheduled for the March 9-10, 2021 ICD-10 Coordination and Maintenance Committee meeting that are under consideration for October 1, 2021 implementation should be sent to the CMS mailbox at: ICDProcedureCodeRequest@cms.hhs.gov.

ICD-10-CM Topics

1. Anatomical Flank Specificity

2. ANCA vasculitis

3. Apnea related conditions of Newborn

4. Atrial and Atrioventricular Septal Defect

5. Alzheimer's/Vascular Dementia

6. Endometriosis

7. Limb girdle muscular dystrophies expansion

8. Lumbar disc degeneration, with pain

9. Mild Cognitive Disorder due to Physiological Conditions (representation)

10. Prolonged Grief Disorder

11. Refractory Angina Pectoris

12. Rheumatic mitral valve leaflet calcification

13. Slipped Upper Femoral Epiphysis

14. Short Stature due to Endocrine Disorder

15. Substance Use Disorder, unspecified, in remission

16. Torsade de pointes expansion

17. Von Willebrand Disease

18. Addenda

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-01740 Filed 1-26-21; 8:45 am]

BILLING CODE 4163-18-P